OFFICE OF THE UNITED STATES TRADE REPRESENTATIVE

Notice of Meeting of the Industry Sector Advisory Committee on Small and Minority Business (ISAC-13)

AGENCY: Office of the United States Trade Representative.

ACTION: Notice of a partially opened meeting.

SUMMARY: The Industry Sector Advisory Committee on Services (ISAC-13) will hold a meeting on December 12, 2001, from 9 a.m. to 12 noon. The meeting will opened to the public from 9 a.m. to 9:45 a.m. and close to the public from 9:45 a.m. to 12 noon.

DATES: The meeting is scheduled for December 12, 2001, unless otherwise notified.

ADDRESSES: The meeting will be held in Conference Room 6057, of the Department of Commerce, located at 14th and Constitution Avenue, NW., Washington, DC.

FOR FURTHER INFORMATION CONTACT: Jennifer Moll (principal contact), at (202) 482-1316, Department of Commerce, 14th Street and Constitution Avenue, NW., Washington, DC 20230 or myself on (202) 395-6120.

SUPPLEMENTARY INFORMATION: During the opened portion of the meeting the agenda topics to be addressed will be:

• National Trade Estimate Report on Foreign Trade Barriers.

• Chile Free Trade Agreement Negotiations Overview.

• General Agreement on Trade in Services (GATS) December Session.

Elizabeth A. Gianini,
Acting Assistant U.S. Trade Representative for Intergovernmental Affairs and Public Liaison.

[FR Doc. 01-30024 Filed 12-3-01; 8:45 am]

BILLING CODE 3190-01-M